DEPARTMENT OF THE TREASURY

Submission for OMB Review; Comment Request

October 3, 2016.

The Department of the Treasury will submit the following information collection request to the Office of Management and Budget (OMB) for review and clearance in accordance with the Paperwork Reduction Act of 1995, Public Law 104-13, on or after the date of publication of this notice.

DATES: Comments should be received on or before November 7, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Internal Revenue Service (IRS)

OMB Control Number: 1545-xxxx.

Type of Review: New collection (Request for a new OMB control number).

Title: Form 14693, Application for Reduced Rate of Withholding on Whistleblower Award Payment.

Form: 14693.

Abstract: Form 14693 is used by a claimant who has been notified that they are due to receive a whistleblower award and who wishes to reduce the rate of withholding on the award.

Affected Public: Individuals or households.

Estimated Total Annual Burden Hours: 75.

Brenda Simms,
Treasury PRA Clearance Officer.

[FR Doc. 2016-24230 Filed 10-5-16; 8:45 am]

BILLING CODE 4830-01-P